FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 26, 2009.

A. Federal Reserve Bank of Atlanta (Steve Foley, Vice President) 1000 Peachtree Street, N.E., Atlanta, Georgia 30309:

1. Don Arthur Barnette, Jonesboro, Georiga; to acquire additional voting shares of CCB Financial Corporation, and thereby indirectly acquire additional voting shares of Community Capital Bank, both of Jonesboro, Georgia.

2. Odric Gregory, individually, and as Chief Manager of Gregory Investments LLC, both of Gallatin, Tennessee; to acquire additional voting shares of Macon Banctrust, Inc., and thereby indirectly acquire additional voting shares of Macon Bank and Trust Company, both of Lafayette, Tennessee.

B. Federal Reserve Bank of Dallas (E. Ann Worthy, Vice President) 2200 North Pearl Street, Dallas, Texas 75201-2272:

1. Harold Ira Kane, Corpus Christi, Texas; to retain voting shares of Charter Bancshares, Inc., and thereby indirectly retain voting shares of Charter Alliance Bank (de novo), both of Corpus Christi, Texas, Charter IBHC, Inc., Wilmington, Delaware, and Charter Bank, Corpus Christi, Texas.

Board of Governors of the Federal Reserve System, August 6, 2009.
Jennifer J. Johnson,
Secretary of the Board.

[FR Doc. E9-19172 Filed 8-10-09; 8:45 am]

BILLING CODE 6210-01-S